DEPARTMENT OF THE INTERIOR

National Park Service

[NPS-WASO-NAGPRA-20672; PPWOCRADN0-PCU00RP14.R50000]

Notice of Inventory Completion: U.S. Department of the Interior, Bureau of Land Management, Nevada State Office, Reno, NV

AGENCY: National Park Service, Interior.

ACTION: Notice.

SUMMARY: The U.S. Department of the Interior, Bureau of Land Management (BLM), Nevada State Office, has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the BLM. If no additional requestors come forward, transfer of control of the human remains to the Indian tribes or Native Hawaiian organizations stated in this notice may proceed.

DATES: Representatives of any Indian tribe or Native Hawaiian organization not identified in this notice that wish to request transfer of control of these human remains should submit a written request with information in support of the request to the BLM at the address in this notice by May 13, 2016.

ADDRESSES: Michael Herder, District Manager, Schell Field Office, HC 33 Box 33500, Ely, NV 98301, telephone (775) 289-1868, email mherder@blm.gov; and Dayna M. Reale, Archaeologist/Cultural Resource Specialist, Schell Field Office, HC 33 Box 33500, Ely, NV 98301, telephone (775) 289-1892, email dreale@blm.gov.

SUPPLEMENTARY INFORMATION: Notice is here given in accordance with the Native American Graves Protection and Repatriation Act (NAGPRA), 25 U.S.C. 3003, of the completion of an inventory of human remains under the control of the U.S. Department of the Interior, Bureau of Land Management, Nevada State Office, Reno, NV. The human remains were removed from the Snake Creek Indian Burial Cave in White Pine County, NV.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by BLM Schell Field Office professional staff in consultation with representatives of the Confederated Tribes of the Goshute Reservation, Nevada and Utah; Duckwater Shoshone Tribe of the Duckwater Reservation, Nevada; Ely Shoshone Tribe of Nevada; Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes)); Shoshone-Paiute Tribes of the Duck Valley Reservation, Nevada; Skull Valley Band of Goshute Indians of Utah; Te-Moak Tribe of Western Shoshone Indians of Nevada (Four constituent bands: Battle Mountain Band; Elko Band; South Fork Band and Wells Band); and the Yomba Shoshone Tribe of the Yomba Reservation, Nevada.

History and Description of the Remains

On an unknown date between July 1984 and January 1988, human remains representing, at minimum, two individuals were removed from Snake Creek Indian Burial Cave (Site 26WP23) in White Pine County, NV. The BLM Nevada State Office has since placed the human remains at the Nevada State Museum in Carson City, NV. The human remains appear to have been removed from the cave by a paleontologist conducting research in the cave. These human remains are catalogued as AHUR 6024 by the Nevada State Museum, Carson City. The human remains were identified as one adult and one juvenile of indeterminate sex. No known individuals were identified. No associated funerary objects are present.

The burial site is located in a solution karst cave with several connected underground chambers, and a vertical entrance that requires rappelling in from the ground surface. Entering the cave requires a drop of about 35 feet into the main chamber. As a result, it has been a natural trap for animals since the Pleistocene period. The remains of an ice age camel, horse, wolverine, badger, marten, wolf, and other locally extinct fauna along with wood and other organic material, were recovered from the cave by paleontological research conducted after the removal of the human remains reported in this notice.

Archeologists in the early to mid-1900s noted cultural materials in the cave and on the ground outside the mouth of the cave. Those materials, including a ladder and pottery, were identified by archeologists in the 1930s and 1950s as “Puebloan,” or likely associated with the Formative period, which includes several nearby sites now known to be large habitation sites associated with the Fremont culture. However, these artifacts have not been located in current collections and were not found in association with the human remains reported here.

The cave is located in Shoshone, Western Shoshone, or Niwi Territory, adjacent to a historic Shoshone community in an area near the Nevada-Utah border used traditionally by Shoshone and Goshute peoples. In addition, the cave was also used historically as a burial place by Goshute and/or Shoshone people. Early 20th century archeologists concluded that the cave was a Shoshone burial site, as a “cone” of human remains of Shoshone individuals and their belongings was located immediately below the opening of the cave. Consultations between the BLM Nevada State Office and various Native American tribes suggest that the cave may have been the place where the last Shoshone or Goshute Chief was buried. In addition, several tribes have previously indicated that the cave is a sacred place, and a prehistoric burial site.

The majority of the human remains in collection AHUR 6024 appear to have been buried. They are dark in color, soil-stained, and have dirt, root stains, and/or root hairs attached, indicative of either interment, or conditions of natural deposition that would occur over time. These features indicate the human remains may be several hundred to several thousands of years old, depending on preservation, or location of deposition within the cave. Given their estimated age, they appear to pre-date Euro-American settlement in the region. However, given the fact that the human remains are generally fractured, represent only scattered portions of the individuals represented, were not find in a primary burial context, and were not associated with any funerary objects, the BLM could not determine whether the human remains are culturally affiliated with any specific modern tribe.

Determinations Made by the BLM Nevada State Office

Officials of the BLM Nevada State Office have determined that:

• Pursuant to 25 U.S.C. 3001(9), the human remains described in this notice are Native American based on the location and context of the burial site, skeletal analysis, and historic documentation.

• Pursuant to 25 U.S.C. 3001(9), the human remains described in this notice represent the physical remains of two individuals of Native American ancestry.

• Pursuant to 25 U.S.C. 3001(2), a relationship of shared group identity cannot be reasonably traced between the Native American human remains and any present-day Indian tribe.

• According to the final judgments of the Indian Claims Commission or the Court of Federal Claims, the land from which the Native American human remains were removed is the aboriginal land of the Confederated Tribes of the Goshute Reservation, Nevada and Utah; Ely Shoshone Tribe of Nevada; the Duckwater Shoshone Tribe of the Duckwater Reservation, Nevada; Shoshone-Paiute Tribes of the Duck Valley Reservation, Nevada; Skull Valley Band of Goshute Indians of Utah; Te-Moak Tribe of Western Shoshone Indians of Nevada (Four constituent bands: Battle Mountain Band; Elko Band; South Fork Band and Wells Band); and the Yomba Shoshone Tribe of the Yomba Reservation, Nevada.

• Pursuant to 43 CFR 10.11(c)(1), the disposition of the human remains may be to the Confederated Tribes of the Goshute Reservation, Nevada and Utah; Ely Shoshone Tribe of Nevada; the Duckwater Shoshone Tribe of the Duckwater Reservation, Nevada; Shoshone-Paiute Tribes of the Duck Valley Reservation, Nevada; Skull Valley Band of Goshute Indians of Utah; Te-Moak Tribe of Western Shoshone Indians of Nevada (Four constituent bands: Battle Mountain Band; Elko Band; South Fork Band and Wells Band); and the Yomba Shoshone Tribe of the Yomba Reservation, Nevada.

Additional Requestors and Disposition

Representatives of any Indian Tribe or Native Hawaiian organization not identified in this notice that wish to request transfer of control of these human remains should submit a written request with information in support of the request to Michael Herder, District Manager, Ely District Office, HC 33 Box 33500, Ely, NV 98301, telephone (775) 289-1868, email mherder@blm.gov, by May 13, 2016. After that date, if no additional requestors have come forward, transfer of control of the human remains to the Confederated Tribes of the Goshute Reservation, Nevada and Utah; Ely Shoshone Tribe of Nevada; the Duckwater Shoshone Tribe of the Duckwater Reservation, Nevada; Shoshone-Paiute Tribes of the Duck Valley Reservation, Nevada; Skull Valley Band of Goshute Indians of Utah; Te-Moak Tribe of Western Shoshone Indians of Nevada (Four constituent bands: Battle Mountain Band; Elko Band; South Fork Band and Wells Band); and the Yomba Shoshone Tribe of the Yomba Reservation, Nevada may proceed.

The BLM Nevada State Office is responsible for notifying the Confederated Tribes of the Goshute Reservation, Nevada and Utah; Duckwater Shoshone Tribe of the Duckwater Reservation, Nevada; Ely Shoshone Tribe of Nevada; Paiute Indian Tribe of Utah (Cedar Band of Paiutes, Kanosh Band of Paiutes, Koosharem Band of Paiutes, Indian Peaks Band of Paiutes, and Shivwits Band of Paiutes) (formerly Paiute Indian Tribe of Utah (Cedar City Band of Paiutes, Kanosh Band of Paiutes, Koosharem Band of Paiutes, Indian Peaks Band of Paiutes, and Shivwits Band of Paiutes)); Shoshone-Paiute Tribes of the Duck Valley Reservation, Nevada; Skull Valley Band of Goshute Indians of Utah; Te-Moak Tribe of Western Shoshone Indians of Nevada (Four constituent bands: Battle Mountain Band; Elko Band; South Fork Band and Wells Band); and the Yomba Shoshone Tribe of the Yomba Reservation, Nevada that this notice has been published.

Dated: March 21, 2016.
Melanie O'Brien,
Manager, National NAGPRA Program.

[FR Doc. 2016-08450 Filed 4-12-16; 8:45 am]

BILLING CODE 4312-50-P